DEPARTMENT OF THE INTERIOR

Fish and Wildlife Service

[FWS-FWS-R9-IA-2009-N144] [96200-1672-0005-7E]

Proposed Information Collection; OMB Control Number 1018-0142; Wildlife Without Borders—Critically Endangered Animals Conservation Fund Grant Program

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on November 30, 2009. We may not conduct or sponsor and a person is not required to respond to a collection of information unless it displays a currently valid OMB control number.

DATES: To ensure that we are able to consider your comments on this IC, we must receive them by September 15, 2009.

ADDRESSES: Send your comments on the IC to Hope Grey, Information Collection Clearance Officer, Fish and Wildlife Service, MS 222-ARLSQ, 4401 North Fairfax Drive, Arlington, VA 22203 (mail); or hope_grey@fws.gov (e-mail).

FOR FURTHER INFORMATION CONTACT: To request additional information about this IC, contact Hope Grey by mail or e-mail (see ADDRESSES) or by telephone at (703) 358-2482.

SUPPLEMENTARY INFORMATION:

I. Abstract

In May 2009, we requested that OMB approve, on an emergency basis, our request to collect information associated with a new grant program. We asked for emergency approval because of the necessity to spend program funds this fiscal year. OMB approved our request and assigned OMB Control No. 1018-0142, which expires November 30, 2009. We are going to ask OMB to extend the approval for this information collection for 3 years.

Section 8 of the Endangered Species Act (16 U.S.C. 1531 et seq.) authorizes the establishment of the Wildlife Without Borders—Critically Endangered Animals Conservation Fund to fund projects that conserve the world's most endangered species. Critically endangered species are those that face an extremely high risk of extinction in the immediate future. The Division of International Conservation, Fish and Wildlife Service, administers this competitive grants program to provide funding for conservation actions that have a high likelihood of creating durable benefits to specific species facing immediate threat of extinction.

Applicants submit proposals for funding in response to a Notice of Funding Availability that we publish on Grants.gov and the program web page. Applications consist of:

(1) Cover page with basic project details (FWS Form 3-2338A).

(2) Project summary and narrative.

(3) Letter of appropriate government endorsement.

(4) Brief curricula vitae for key project personnel.

(5) Complete Standard Forms 424 and 424b (non-domestic applicants do not submit the standard forms).

Applications may also include, as appropriate, a copy of the organization's Negotiated Indirect Cost Rate Agreement (NIRCA) and any additional documentation supporting the proposed project.

All assistance awards under this program have a maximum reporting requirement of a:

(1) Mid-term report (performance report and a financial status report) due within 30 days of the conclusion of the first half of the project period, and

(2) Final report (performance and financial status report and copies of all deliverables, photographic documentation of the project and products resulting from the project) due within 90 days of the end of the performance period.

II. Data

OMB Control Number: 1018-0142.

Title: Wildlife Without Borders—Critically Endangered Animals Conservation Fund Grant Program.

Service Form Number(s): 3-2338A.

Type of Request: Extension of a currently approved collection.

Affected Public: Domestic and nondomestic Federal, State, and local governments; nonprofit, nongovernmental organizations; public and private institutions of higher education; and any other organization or individual with demonstrated experience deemed necessary to carry out the proposed project.

Respondent's Obligation: Required to obtain or retain a benefit.

Frequency of Collection: Annually.

Activity | Number of annual respondents | Number of annual responses | Completion time per response | Annual burden hours
Applications | 40 | 40 | 12 hours | 480
Reports | 10 | 20 | 30 hours | 600
Totals | 50 | 60 |  | 1,080

III. Request for Comments

We invite comments concerning this IC on:

(1) Whether or not the collection of information is necessary, including whether or not the information will have practical utility;

(2) The accuracy of our estimate of the burden for this collection of information;

(3) Ways to enhance the quality, utility, and clarity of the information to be collected; and

(4) Ways to minimize the burden of the collection of information on respondents.

Comments that you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: July 9, 2009
Hope Grey,
Information Collection Clearance Officer, Fish and Wildlife Service.

[FR Doc. E9-17072 Filed 7-16-09; 8:45 am]

BILLING CODE 4310-55-S